DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 02-052. Applicant: University of Chicago, 920 East 58th Street, Chicago, IL 60637. Instrument: Electron Microscope, Model Tecnai G ² F30 S-TWIN. Manufacturer: FEI Company, The Netherlands. Intended Use: The instrument is intended to be used for research in the following areas:

1. Nanostructured Solids

Projects investigating metal, semiconductor, and biological nanocrystals, focusing both on the characterization of individual nanocrystals as well as on their self-assembly properties.

2. Nanostructured Polyumer Architectures

Projects aimed at elucidating the nanoscale phase separation and pattern formation of block copolymers, including novel conjugated copolymers. Also, the use of those copolymer structures as nano-templates and scaffolds for organic/inorganic composites.

3. Nanoscale Bio-Structures

Projects investigating the structure and formation of bio-fibers and bio-membranes, as well as their potential for novel materials applications.

Application accepted by Commissioner of Customs: December 27, 2002.

Docket Number: 03-001. Applicant: University of Missouri-Kansas City, School of Dentistry, 650 E. 25th Street, Kansas City, MO 64108. Instrument: (2) Each Scanning Acoustic Microscopes, Models SAM 2000 and WINSAM 100. Manufacturer: Kramer Scientific Instruments GmbH, Germany. Intended Use: The instruments are intended to be used for projects including micro-mechanical measurement at the cellular/tissue level, and interfacial coupling defects in experimental oxirane/polyol composites. Other studies include: (1) Determining whether the lack of mechanical strain permits the osteocyte to send signals initiating bone resorption and (2) to study the fracture mechanics of newly synthesized low-shrinking and low-stress producing resin composite restorative materials. Application accepted by Commissioner of Customs: January 3, 2003.

Docket Number: 03-002. Applicant: University of Colorado, JILA, 440 UCB, Boulder, CO 80309-0440. Instrument: DFB Fiber Laser with Amplifier, Model Y10. Manufacturer: Koheras A/S, Denmark. Intended Use: The instrument is intended to be used to study the energy level of a single trapped Hg+ ion. Application accepted by Commissioner of Customs: January 15, 2003.

Gerald A. Zerdy,
Program Manager, Statutory Import Programs Staff.

[FR Doc. 03-3083 Filed 2-6-03; 8:45 am]

BILLING CODE 3510-DS-P